CONSUMER PRODUCT SAFETY COMMISSION

[CPSC Docket No. 05-C0006]

Graco Children's Products, Inc., a Corporation and Century Products, f/k/a Century Products Company, Provisional Acceptance of a Settlement Agreement and Order

Correction

In notice document 05-6066 beginning on page 15842 in the issue of Tuesday, March 29, 2005, in the first column, in the document heading, correct the subject to read as set forth above.

[FR Doc. C5-6066 Filed 4-4-05; 8:45 am]

BILLING CODE 1505-01-D

ENVIRONMENTAL PROTECTION AGENCY

40 CFR Part 271

[FRL-7857-8]

New York: Final Authorization of State Hazardous Waste Management Program Revision

Correction

In rule document 05-504 beginning on page 1825 in the issue of Tuesday, January 11, 2005, make the following correction:

On pages 1826 and 1827, the table is corrected in part to read as follows:

Description of Federal Requirement (Revision Checklists ¹) | Analogous State regulatory authority ²
* * * * * * * | RCRA CLUSTER VIII
Organic Air Emission Standards for Tanks, Surface Impoundments, and Containers; Clarification and Technical Amendment (12/8/97, 62 FR 64636; Revision Checklist 163) | 6 NYCRR 373-1.5(a)(2)(v), 373-2.2(g)(2)(iv), 373-2.5(c)(2)(vi), 373-2.27(a)(2)(iii),373-2.27(a)(3) and (a)(4), 373-2.27(b)(21), 373-2.27(d)(1)(ii)(‘a’)-(‘d’), 373-2.28(a)(2)(iii), 373-2.28(a)(3) and (a)(6), 373-2.28(k), 373-2.28(m)(2)(ii) and (iii), 373-2.28(o)(7)(vi), 373-2.28(o)(13), 373-2.29(a)(2)(i), 373-2.29(a)(3), 373-2.29(c)(2), 373-2.29(c)(3)(ii)(‘i’), 373-2.29(c)(3)(iii), 373-2.29(c)(3)(iv)(‘b’), 373-2.29(d)(1)(ii), 373-2.29(d)(2)(i), 373-2.29(e)(3)(ii)(‘c’) introductory paragraph, 373-2.29(e)(3)(ii)(‘c’)(‘2'), 373-2.29(e)(5)(iv), 373-2.29(e)(6)(iii)(‘a’)(‘4')(‘iv’), 373-2.29(e)(6)(iii)(‘c’), 373-2.29(e)(6)(iv), 373-2.29(e)(10)(ii)(‘c’), 373-2.29(f)(2)(ii), 373-2.29(f)(4)(i)(‘c’), 373-2.29(f)(4)(ii)(‘a’)(‘2’), 373-2.29(f)(5)(ii)(‘c’), 373-2.29(g)(3)(ii), 373-2.29(g)(3)(iv)(‘a’), 373-2.29(g)(4)(ii) and(iv)(‘a’), 373-2.29(g)(7), 373-2.29(h)(3)(iii)(‘b’),373-2.29(h)(3)(vii), 373-2.29(j)(1), 373-2.29(j)(2)(i)(‘b’)(‘2'), 373-2.29(j)(6)(i), 373-2.29(j)(10), 373-3.2(f)(2)(iv), 373-3.5(c)(2)(vi), 373-3.27(a)(2)(iii), 373-3.27(a)(3), 373-3.27(d)(1)(ii), 373-3.27(d)(6)(ii)(‘f’)(‘2'), 373-3.28(a)(2)(iii), 373-3.28(a)(5), 373-3.28(k), 373-3.28(m)(2)(ii) and (iii), 373-3.28(o)(7)(vi), 373-3.28(o)(13), 373-3.29(a)(2)(i) and (a)(3), 373-3.29(b)(11) and (c), 373-3.29(d)(2), 373-3.29(d)(3)(ii)(‘a’) and (‘i’), 373-3.29(d)(3)(iii),373-3.29(d)(3)(iv)(‘b’), 373-3.29(e)(1)(ii), 373-3.29(e)(1)(iii)(‘b’)(‘2'), 373-3.29(e)(1)(iii)(‘c’) introductory paragraph and (‘1’), 373-3.29(e)(1)(iii)(‘c’)(‘6'), 373-3.29(e)(1)(iii)(‘c’)(‘7') introductory paragraph and (‘i’), 373-3.29(e)(1)(iii)(‘d’) and (‘e’), 373-3.29(e)(1)(iv)(‘d’), 373-3.29(e)(2)(i), 373-3.29(e)(2)(iii)(‘b’)(‘2’), 373-3.29(e)(2)(iii)(‘c’) introductory paragraph, 373-3.29(e)(2)(iii)(‘c’)(‘6') and (‘7’), 373-3.29(e)(2)(iii)(‘d’) and (‘e’), 373-3.29(e)(2)(viii)(‘c’), 373-3.29(e)(2)(ix)(‘d’), 373-3.29(e)(4)(v)(‘b’), 373-3.29(f)(3)(ii)(‘c’) introductory paragraph, 373-3.29(f)(3)(ii)(‘c’)(‘2’),373-3.29(f)(5)(iv), 373-3.29(f)(6)(iii)(‘a’)(‘4’)(‘iv’), 373-3.29(f)(6)(iv),373-3.29(f)(10)(ii)(‘c’), 373-3.29(g)(2)(ii), 373-3.29(g)(4)(i)(‘c’), 373-3.29(g)(4)(ii)(‘a’)(‘2’),373-3.29(g)(5)(ii)(‘c’), 373-3.29(h)(3)(iv)(‘a’), 373-3.29(h)(4)(iv)(‘a’), 3733.29(h)(7), 373-3.29(i)(3)(iii)(‘b’), 373-3.29(i)(3)(vii), 373-3.29(k)(1), 373-3.29(k)(2)(i)(‘b’)(‘2’), 373-3.29(k)(6)(i), 373-3.29(k)(10), and 373 Appendix 55.
| (More stringent provisions: 373-2.29(c)(3)(iv)(‘b’) and 373-3.29(d)(3)(iv)(‘b’).)
* * * * * * * |
Land Disposal Restrictions Phase IV—Bevill Exclusion Revisions and Clarifications (5/26/98, 63 FR 28556; Revision Checklist 167 E). | 6 NYCRR 371.1(d)(1)(ii)(‘a’) and (‘c’), 371.1(e)(2)(vi) introductory paragraph through (vi)(‘b’)(‘20’) and 371.1(e)(2)(vi)(‘c’).
* * * * * * *

[FR Doc. C5-504 Filed 4-4-05; 8:45 am]

BILLING CODE 1505-01-D